Title 3—

The President

Proclamation 7663 of April 11, 2003

Pan American Day and Pan American Week, 2003

By the President of the United States of America

A Proclamation

Our Nation takes great pride in the unity of the Pan American community. We enjoy strong bonds of friendship with our neighbors throughout the Western Hemisphere, and the almost 33 million citizens of Latin American and Caribbean descent who are a part of the rich cultural diversity of our country. Their contributions have enriched our Nation. In the Western Hemisphere, we share common commitments to overcoming poverty, achieving peace and prosperity for all, and providing safety in our hemisphere. As we observe Pan American Day and Pan American Week, we renew our dedication to working with the Pan American community of nations to protect democracy, promote economic growth, and provide for the defense and security of all our citizens.

The governments of the region continue to make important progress in advancing democracy, as demonstrated by the free, fair, and transparent elections that took place throughout the region this past year. The United States joins with our neighbors in the hemisphere in congratulating the citizens and governments of those nations on their achievements, and my Administration remains dedicated to working with the democratically elected governments of the Americas to defend freedoms whenever and wherever they are threatened. The historic Inter-American Democratic Charter, adopted on September 11, 2001, continues to guide efforts across the region to protect human rights and political freedoms, combat corruption, promote good governance, and strengthen democratic institutions.

The countries of our hemisphere have made great strides in opening their economies in recent decades, and we must continue to work towards open exchanges of ideas and goods throughout Pan America. To promote these goals, we must welcome the expansion of economic integration and renew our dedication to creating a Free Trade Area of the Americas.

Ensuring hemispheric security remains one of our most important common objectives. Today and in the future, we will continue our efforts to safeguard our citizens and to ensure that individuals throughout our hemisphere enjoy the full benefits of freedom. By working together, we can achieve the Pan American goals of protecting democracy and human rights, defeating tyranny, and overcoming poverty and lawlessness.

NOW, THEREFORE, I, GEORGE W. BUSH, President of the United States of America, by virtue of the authority vested in me by the Constitution and laws of the United States, do hereby proclaim April 14, 2003, as Pan American Day, and April 13 through April 19, 2003, as Pan American Week. I encourage the Governors of the 50 States, the Governor of the Commonwealth of Puerto Rico, and the officials of other areas under the flag of the United States of America to honor these observances with appropriate ceremonies and activities.

IN WITNESS WHEREOF, I have hereunto set my hand this eleventh day of April, in the year of our Lord two thousand three, and of the Independence of the United States of America the two hundred and twenty-seventh.

B

[FR Doc. 03-9555

Filed 4-15-03; 9:18 am]

Billing code 3195-01-P